DEPARTMENT OF AGRICULTURE

Federal Crop Insurance Corporation

Notice of Request for Extension of a Currently Approved Information Collection

AGENCY: Federal Crop Insurance Corporation, USDA.

ACTION: Extension of approval of an information collection; comment request.

SUMMARY: This notice announces a public comment period on the information collection requests (ICRs) associated with crop insurance policies administered by Federal Crop Insurance Corporation (FCIC).

DATES: Written comments on this notice will be accepted until close of business August 9, 2002.

ADDRESSES: Interested persons are invited to submit written comments to Timothy Hoffmann, Director, Product Development Division, Federal Crop Insurance Corporation, United States Department of Agriculture, 6501 Beacon Drive, Stop 0812, Kansas City, MO 64133. Comments titled “Information Collection OMB 0563-0057” may be sent via the Internet to: DirectorPDD@rm.fcic.usda.gov

FOR FURTHER INFORMATION CONTACT: Louise Narber, Risk Management Specialist, Federal Crop Insurance Corporation, at the address listed above, telephone (641) 535-6025.

SUPPLEMENTARY INFORMATION: Title: New Crop Insurance Programs (Pilot and Private Crop Insurance Policies).

OMB Number: 0563-0057.

Expiration Date of Approval: April 30, 2003.

Type of Request: Extension of a currently approved information collection.

Abstract: FCIC is proposing to renew the currently approved information collection, OMB Number 0563-0057. It is currently up for renewal and extension for three years. FCIC is conducting a thorough review of information collections associated with its crop insurance policies under this collection. The information collection requirements for this renewal package are necessary for administering the crop insurance program. Producers are required to report specific data when they apply for crop insurance and report acreage, yields and notices of loss. Insurance companies accept applications, issue policies, establish and provide insurance coverage, compute liability, premium, subsidies, and losses, indemnify producers, and report specific data to FCIC, as required. Insurance agents market crop insurance and service the producer. This data is used to administer the Federal crop insurance program in accordance with the Federal Crop Insurance Act, as amended.

We are asking the Office of Management and Budget (OMB) to extend its approval of our use of this information collection activity for an additional 3 years.

The purpose of this notice is to solicit comments from the public concerning this information collection activity. These comments will help us:

(1) Evaluate whether the proposed collection of information is necessary for the proper performance of the functions of the agency, including whether the information has practical utility;

(2) Evaluate the accuracy of the agency's estimate of the burden of the proposed collection of information;

(3) Enhance the quality, utility, and clarity of the information to be collected; and

(4) Minimize the burden of the collection of information on those who are to respond, through use, as appropriate, of automated, electronic, mechanical, and other collection technologies, e.g., permitting electronic submission of responses.

Estimate of burden: The public reporting burden for this collection of information is estimated to average 0.4 hours per response.

Respondents/Affected Entities: Parties affected by the information collection requirements included in this Notice are producers and insurance companies reinsured by FCIC, including their agents.

Estimated annual number of respondents: 14,496.

Estimated annual number of responses per respondent: 2.3.

Estimated annual number of responses: 33,343.

Estimated total annual burden hours on respondents: 13,113.

All responses to this notice will be summarized and included in the request for OMB approval. All comments will also become a matter of public record.

Signed in Washington, DC, on May 31, 2002.
Ross J. Davidson, Jr.,
Manager, Federal Crop Insurance Corporation.

[FR Doc. 02-14407 Filed 6-7-02; 8:45 am]

BILLING CODE 3410-08-P